DEPARTMENT OF TRANSPORTATION

Federal Aviation Administration

14 CFR Part 39

[Docket No. FAA-2004-18572; Directorate Identifier 2003-NM-72-AD; Amendment 39-13848; AD 2004-22-20]

RIN 2120-AA64

Airworthiness Directives; McDonnell Douglas Model MD-11 and MD-11F Airplanes

AGENCY: Federal Aviation Administration (FAA), DOT.

ACTION: Final rule.

SUMMARY: The FAA is adopting a new airworthiness directive (AD) for certain McDonnell Douglas Model MD-11 and MD-11F airplanes. This AD requires replacement of low base terminal boards, related investigative action, and corrective actions if necessary. This AD is prompted by arcing between a power feeder cable and terminal board support bracket. We are issuing this AD to prevent arcing damage to the power feeder cables, terminal boards, and adjacent structure, which could result in smoke and/or fire in the cabin.

DATES: This AD becomes effective December 14, 2004.

The incorporation by reference of a certain publication listed in the AD is approved by the Director of the Federal Register as of December 14, 2004.

ADDRESSES: For service information identified in this AD, contact Boeing Commercial Airplanes, Long Beach Division, 3855 Lakewood Boulevard, Long Beach, California 90846, Attention: Data and Service Management, Dept. C1-L5A (D800-0024). You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

FOR FURTHER INFORMATION CONTACT: Technical information: Brett Portwood, Aerospace Engineer, Systems and Equipment Branch, ANM-130L, FAA, Los Angeles Aircraft Certification Office, 3960 Paramount Boulevard, Lakewood, California 90712-4137; telephone (562) 627-5350; fax (562) 627-5210. Plain language information: Marcia Walters, marcia.walters@faa.gov.

SUPPLEMENTARY INFORMATION: The FAA proposed to amend 14 CFR part 39 with an AD for certain McDonnell Douglas Model MD-11 and MD-11F airplanes. That action, published in the Federal Register on July 13, 2004 (69 FR 41992), proposed to require replacement of low base terminal boards, related investigative action, and corrective actions if necessary.

Comments

We provided the public the opportunity to participate in the development of this AD. No comments have been submitted on the proposed AD or on the determination of the cost to the public.

Conclusion

We have carefully reviewed the available data and determined that air safety and the public interest require adopting the AD as proposed.

Costs of Compliance

There are about 152 airplanes of the affected design in the worldwide fleet. This AD will affect about 52 airplanes of U.S. registry. The following table provides the estimated costs for U.S. operators to comply with this AD.

Estimated Costs
Airplanes identified in the service bulletin as— | Work hours | Average labor rate per hour | Parts cost | Cost per airplane (depending on the airplane configuration)
Group 1 | 3 | $65 | $45-$384 | $240-$579
Groups 2 and 5 | 1 | 65 | 45-384 | 110-449
Groups 3, 4, and 6 | 2 | 65 | 45-384 | 175-514

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-22-20 McDonnell Douglas: Amendment 39-13848. Docket No. FAA-2004-18572; Directorate Identifier 2003-NM-72-AD.

Effective Date

(a) This AD becomes effective December 14, 2004.

Affected ADs

(b) None.

Applicability

(c) This AD applies to McDonnell Douglas Model MD-11 and MD-11F airplanes, as listed in McDonnell Douglas Alert Service Bulletin MD11-24A175, Revision 01, dated April 25, 2003; certificated in any category.

Unsafe Condition

(d) This AD was prompted by arcing between a power feeder cable and terminal board support bracket. We are issuing this AD to prevent arcing damage to the power feeder cables, terminal boards, and adjacent structure, which could result in smoke and/or fire in the cabin.

Compliance

(e) You are responsible for having the actions required by this AD performed within the compliance times specified, unless the actions have already been done.

Service Bulletin References

(f) The term “service bulletin,” as used in this AD, means the Accomplishment Instructions of McDonnell Douglas Alert Service Bulletin MD11-24A175, Revision 01, dated April 25, 2003, including Boeing Information Notices MD11-24A175 IN 01, dated November 6, 2003, and MD11-24A175 IN 02, dated December 17, 2003.

Replacement, Related Investigative Action, and Corrective Actions

(g) Within 18 months after the effective date of this AD, replace low base terminal boards with higher base terminal boards in accordance with the applicable figure in the service bulletin, and do all related investigative action/applicable corrective actions by accomplishing all the actions in the service bulletin, except as provided by paragraph (h) of this AD. Any related investigative action/applicable corrective actions must be done before further flight.

(h) If, during the corrective actions required by paragraph (g) of this AD, the type of structural material that has been damaged is not covered in the structural repair manual, before further flight, repair in accordance with a method approved by the Manager, Los Angeles Aircraft Certification Office (ACO), FAA.

Parts Installation

(i) As of the effective date of this AD, no person may install a terminal board, as listed in section 1.A.2. “Spares Affected” of the Planning Information of the service bulletin, on any airplane.

No Reporting

(j) Although the service bulletin referenced in this AD specifies to submit certain information to the manufacturer, this AD does not include that requirement.

Alternative Methods of Compliance (AMOCs)

(k) The Manager, Los Angeles ACO, FAA, has the authority to approve AMOCs for this AD, if requested using the procedures found in 14 CFR 39.19.

Material Incorporated by Reference

(l) You must use McDonnell Douglas Alert Service Bulletin MD11-24A175, Revision 01, dated April 25, 2003, including Boeing Information Notice MD11-24A175 IN 01, dated November 6, 2003, and Boeing Information Notice MD11-24A175 IN 02, dated December 17, 2003, to perform the actions that are required by this AD, unless the AD specifies otherwise. The Director of the Federal Register approves the incorporation by reference of these documents in accordance with 5 U.S.C. 552(a) and 1 CFR part 51. For copies of the service information, contact Boeing Commercial Airplanes, Long Beach Division, 3855 Lakewood Boulevard, Long Beach, California 90846, Attention: Data and Service Management, Dept. C1-L5A (D800-0024). For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on October 25, 2004.
Ali Bahrami,
Manager, Transport Airplane Directorate, Aircraft Certification Service.

[FR Doc. 04-24623 Filed 11-8-04; 8:45 am]

BILLING CODE 4910-13-P